SOCIAL SECURITY ADMINISTRATION

[Docket No: SSA-2024-0032]

Agency Information Collection Activities: Proposed Request

The Social Security Administration (SSA) publishes a list of information collection packages requiring clearance by the Office of Management and Budget (OMB) in compliance with Public Law 104-13, the Paperwork Reduction Act of 1995, effective October 1, 1995. This notice includes one new information collection for public comment and ultimately OMB approval.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA. You may submit your comments online through https://www.reginfo.gov/public/do/PRAMain, referencing Docket ID Number [SSA-2024-0032].

(SSA), Social Security Administration, OLCA, Attn: Reports Clearance Director, Mail Stop 3253 Altmeyer, 6401 Security Blvd., Baltimore, MD 21235, Fax: 833-410-1631, Email address: OR.Reports.Clearance@ssa.gov. Or you may submit your comments online through https://www.reginfo.gov/public/do/PRAMain, referencing Docket ID Number [SSA-2024-0032].

SSA submitted the information collections below to OMB for clearance. Your comments regarding these information collections would be most useful if OMB and SSA receive them 30 days from the date of this publication. To be sure we consider your comments, we must receive them no later than September 26, 2024. Individuals can obtain copies of these OMB clearance packages by writing to the above email address.

0960-NEW. Social Security Income Simplification Process Phase I (iSSI). Overview

SSA is embarking on a multi-year effort to simplify the Supplemental Security Income (SSI) application process. This presents a formidable challenge, based on the inherent complexity of the program.

The SSI program legally requires SSA to request extensive amounts of information from SSI applicants to make accurate eligibility and payment determinations. This is because the SSI program is, by statute, intended to provide assistance based on the current needs of a specific individual, with eligibility and payment amounts frequently fluctuating. Accordingly, it takes a significant number of questions to accurately identify an applicant's situation and needs. The framework of the SSI program will not change regardless of the type of application claimants must complete. However, we recognize that the current process is burdensome and challenging for the public, and we are doing what we can to reduce this burden and improve access to SSI.

As part of this effort, our goal is to develop a fully online, simplified SSI application process. As an important step toward that goal, we are currently planning to implement in late 2024 the SSI Simplification Phase I initiative, or iSSI. iSSI will be a pathway in the existing Social Security internet Claim (iClaim) System (OMB No. 0960-0618) that will streamline and shorten the SSI application for Title XVI 1 disability applicants. iClaim is an online portal the public can use to apply for multiple types of Social Security benefits. Currently, this includes Retirement, Spouse's, and Disability Insurance benefits (DIB) (Title II SSDI). Although SSI Simplification Phase I/iSSI will be part of iClaim, the initiative relates to three existing OMB-approved SSA Information Collection Requests (ICRs) in total. Further details about iSSI and these three related ICRs follow.

How will iSSI work?

iSSI will work as follows:

• Title XVI applicants who want to use the internet to apply for SSI will use the iClaim system to initiate the application process and establish the protective filing date of the application. Applicants filing for themselves can authenticate online using one of our existing authentication methods, while applicants assisting others can use iClaim without authenticating. Although SSA encourages respondents to authenticate in iClaim, they can continue to use the system without authentication.

• When applicants who use iClaim authenticate themselves, the iClaim system can use some information already within SSA records. For all applicants, the iClaim system will prompt the Social Security Disability (Disability Insurance Benefit (DIB)) questions and pre-populate the applicant's answers within the iSSI portion of the iClaim pages. The applicants would then only need to answer simplified eligibility related questions, excerpted from the deferred SSI application, that will form the core of iSSI. These are what SSA refers to as “basic eligibility questions.”

• After answering the DIB and SSI basic eligibility questions, applicants will be automatically transferred to other existing steps within the SSI Application iClaim path, such as providing medical information (using the i3368, OMB No. 0960-0579) and signing a medical release using the i827 (OMB No. 0960-0623). This process will be seamless to the applicant, as the iClaim system will take them from page to page without interruption.

• Once the applicant submits the information online, SSA technicians will review it for completeness and send it to the Disability Determination Services (DDS) to make a disability determination. The DDS can make a decision based on the application materials and evidence the respondent provides; by obtaining medical evidence and/or work history from the applicant; or by scheduling a consultative examination (if needed).

• We will allow applicants filing for themselves and third-party assistors (i.e., respondents acting on behalf of claimants) to use the new iSSI process. (Note: Although iClaim does not allow a third party to electronically sign on behalf of the applicant, the new process will not require the applicant to visit a field office. Rather, SSA will mail a copy of the third party's responses to the DIB and SSI application questions to the applicant, and the applicant may either sign the application and return it via mail, or wait for an SSA employee to call them to give verbal attestation in lieu of a wet signature.)

To which existing SSA ICRs does iSSI relate, and how will it interact with them?

iSSI relates to three existing OMB-approved ICRs: 0960-0618, Application for Social Security Benefits (Specifically the Social Insurance Disability (DIB) SSA-16); 0960-0229 (SSA-8000, Application for Supplemental Security Income); and 0960-0444 (SSA-8001, Application for Supplemental Security Income (Deferred or Abbreviated)). The SSA-16 is fully electronic through the iClaim system, and forms SSA-8000 and SSA-8001 are available as either paper forms or Intranet screens that SSA employees can complete while interviewing applicants.

Recent discussions with third-party helpers and advocates indicate that they regularly complete and mail the paper SSA-8000 on behalf of applicants.

However, that adds an unnecessary burden to responders, as the information is only needed after the medical approval. SSA data shows that approximately 52% of the SSI applications SSA processed were SSA-8000 applications, while the remaining 48% use the SSA-8001. The new online iSSI streamlined application will make it easier for applicants to use the SSA-8001 by allowing more responders to file online, and by paving the way for the future implementation of the new streamlined SSI questions on the other service channels (i.e., in person or phone interviews).

(1) 0960-0618/Social Security Benefits Applications

The Social Security Benefit Applications can be submitted through the online iClaim system. iClaim offers a timesaving and streamlined process by importing some existing information already in SSA's records, and prepopulating answers when applicable as the applicant moves seamlessly from one form to another. As well, iClaim uses dynamic pathing, which ensures claimants are only asked to complete the questions that are relevant to them.

iClaim currently offers a limited Title XVI application to apply for SSI payments. Applicants navigate the SSA website to learn about benefits for which they can apply online. SSA directs them to iClaim to use the current limited SSI application if they meet the requirements listed below:

• Indicate intent to file

• Allege disability and are under the age of 64 and 10 months,

• Are U.S. citizens,

• Have never been married; and

• Have never filed for SSI or named as a parent on a child's SSI record

However, the new SSI Simplification Phase 1 pathway, as described above, will expand to US residents and non U.S. citizens, and add the new streamlined SSI questions to avoid collecting unnecessary information or contacting responders for additional information. The updated iClaim burden figures provided below reflect the inclusion of new SSI claimants who will now be using iSSI to apply:

Modality of completion | Number of respondents | Frequency of response | Average burden per response (minutes) | Estimated annual burden (hours) | Average theoretical cost amount (dollars) * | Average wait time in field office or for teleservice centers (minutes) ** | Total annual opportunity cost (dollars) ***
SSA-1
Paper version (SSA-1) | 17,604 | 1 | 11 | 3,227 | * $31.48 |  | *** $101,586
Interview/Phone MCS | 1,679,321 | 1 | 10 | 279,887 | * 31.48 | ** 19 | *** 25,551,435
Interview/Office MCS | 51,648 | 1 | 10 | 8,608 | * 31.48 | ** 24 | *** 921,325
Internet First Party | 1,835,958 | 1 | 15 | 458,990 | * 31.48 |  | *** 14,449,005
Third party initiated (complete and submit) | 81,810 | 1 | 15 | 20,453 | * 31.48 |  | *** 643,860
Totals | 3,666,341 |  |  | 771,165 |  |  | *** 41,067,211
SSA-2
Paper version (SSA-2) | 6,723 | 1 | 15 | 1,681 | * 31.48 |  | *** 52,918
Interview/Phone MCS | 358,225 | 1 | 14 | 83,586 | * 31.48 | ** 19 | *** 6,202,316
Interview/Office MCS | 8,227 | 1 | 14 | 1,920 | * 31.48 | ** 24 | *** 164,042
Internet First Party | 119,129 | 1 | 15 | 29,782 | * 31.48 |  | *** 937,537
Totals | 492,304 |  |  | 116,969 |  |  | *** 7,356,813
SSA-16
Paper version (SSA-16) | 46,032 | 1 | 20 | 15,344 | * 31.48 |  | *** 483,029
Interview/Phone MCS | 723,281 | 1 | 19 | 229,039 | * 31.48 | ** 19 | *** 14,420,295
Interview/Office MCS | 10,843 | 1 | 19 | 3,434 | * 31.48 | ** 24 | *** 244,631
Internet First Party | 667,806 | 1 | 15 | 166,952 | * 31.48 |  | *** 5,255,649
Internet Third party | 561,014 | 1 | 15 | 140,254 | * $31.48 |  | *** 4,415,196
Totals | 2,008,976 |  |  | 555,023 |  |  | *** 24,818,800
Grand Total
Totals | 6,167,621 |  |  | 1,443,157 |  |  | *** 73,242,824
* We based this figure on the average hourly wage for all occupations as reported by the U.S. Bureau of Labor Statistics (https://www.bls.gov/oes/current/oes_nat.htm).
** We based this figure on the average FY 2024 wait times for field offices, based on SSA's current management information data.
*** This figure does not represent actual costs that SSA is imposing on recipients of Social Security payments to complete this application; rather, these are theoretical opportunity costs for the additional time respondents will spend to complete the application. There is no actual charge to respondents to complete the application.

(2) 0960-0229/SSA-8000, Application for Supplemental Security Income (SSI)

Form SSA-8000 is the full SSI application. SSA instructs technicians to use the SSA-8000 for initial claim interviews when respondents:

• Have a condition that would likely meet a medical allowance (e.g., terminal illness, presumptive blindness, compassionate allowance (CAL) conditions such leukemia, Lymphoma, etc.,) which allows technicians to simultaneously submit the application for medical evaluation and continue the income and resources development. This process ensures that the medical evaluation is not delayed due to any pending non-medical development;

• File for aged benefits;

• File together with a spouse (i.e., couple cases); or

• Meet the Expeditious Handling criteria (e.g., homeless, pre-release from public instructions, etc.).

It is possible that someone who otherwise would have gone to a field office or called SSA to complete a full SSA-8000 might now complete the new iSSI at the beginning of the process, and would then be called by SSA at a later point to provide the additional required information. iClaim asks these applicants to provide us with their intent to file for SSI (when filing for DIB using iClaim) or contact us to set up an appointment and file with the assistance of a technician. These applicants will also have the option to complete the iSSI pathing in iClaim. This process will continue with the implementation of Phase 1. For individuals who are aged (i.e., age of 64 and 10 months) or married filing for SSI, iClaim will not display the iSSI pathing; rather, the system will indicate that SSA will contact the applicants later to complete their SSI application.

For the individuals who now start off with the iSSI and have a condition that would likely meet a medical allowance, the filed application is flagged as a priority case to expedite the process. SSA technicians will quickly review the application, refer it to the DDS for medical evaluation, and simultaneously develop and secure additional information as needed. However, with the new iSSI, the universe of respondents will expand, and the amount of time needed to complete file their applications will decrease. Projected updated burden figures are reflected below:

Modality of completion | Number of respondents | Frequency of response | Average burden per response (minutes) | Estimated total annual burden (hours) | Average theoretical cost amount (dollars) * | Average wait time in field office or for teleservice centers (minutes) ** | Total annual opportunity cost (dollars) ***
Intranet CCE or SSI Claims System | 674,154 | 1 | 35 | 393,257 | * $22.39 | ** 19 | * $13,584,886
SSA-8000 (Paper Version) | 34,244 | 1 | 40 | 22,829 | * 22.39 | ** 19 | *** 753,938
Internet SSI (iSSI) converted into CCE intranet full application | 1,080 | 1 | 20 | 360 | * 22.39 | ** 19 | *** 15,718
Total | 709,478 |  |  | 416,446 |  |  | *** 14,354,542
* We based this figure by averaging both the average DI payments based on SSA's current data (https://www.ssa.gov/legislation/2024FactSheet.pdf), and the average U.S. worker's hourly wages, as reported by Bureau of Labor Statistics data (https://www.bls.gov/oes/current/oes_nat.htm).
** We based this figure on averaging both the average FY 2024 wait times for field offices and teleservice centers, based on SSA's management information data.
*** This figure does not represent actual costs that SSA is imposing on recipients of Social Security payments to complete this application; rather, these are theoretical opportunity costs for the additional time respondents will spend to complete the application. There is no actual charge to respondents to complete the application.

(3) 0960-0444/SSA-8001, Application for Supplemental Security Income (Deferred or Abbreviated)

SSA uses this shortened version of the SSI application to determine an applicant's potential eligibility for SSI, specifically to (1) provide a formal notification when non-medical information the applicant provides results in ineligibility; or (2) defer the complete development of non-medical issues until the DDS approves the medical portion of the disability process.

Specifically, SSA technicians use the SSA-8001 when the filing respondents seem to meet the non-medical eligibility requirements for at least one month and SSA can defer other development until the respondent receives a notice of medical allowance. After the initial interview and upon receiving medical allowance, technicians contact respondents who filed for SSI using the SSA-8001 to develop any deferred issues and update the information about income and resources from the time the respondent filed the application up to the month the respondent received SSA's approval. At that point, SSA technicians use the Intranet version of the SSA-8000 to develop the remaining necessary information (from the perspective of the applicant, through a personal interview).

SSA anticipates that the majority of respondents for the new iSSI would have otherwise completed the SSA-8001. Accordingly, we are revising the burden for the SSA-8001 to reflect this reduction:

Modality of completion | Number of respondents | Frequency of response | Average burden per response (minutes) | Estimated total annual burden (hours) | Average theoretical cost amount (dollars) * | Average wait time in field office or for teleservice centers (minutes) ** | Total annual opportunity cost (dollars) ***
Intranet CCE or SSI Claims System | 426,388 | 1 | 28 | 198,981 | * $22.39 | ** 19 | *** $7,478,350
Internet Claim System (iSSI) First party | + 76,500 | 1 | 6 | 7,650 | * 22.39 |  | *** 171,284
Internet Claim System (iSSI) Third party | + 71,000 | 1 | 6 | 7,100 | * 22.39 |  | *** 158,969
SSA-8001 (Paper Version) | 38,304 | 1 | 28 | 17,875 | * 22.39 | ** 19 | *** 671,812
Total | 612,192 |  |  | 231,606 |  |  | *** 8,480,415
+ We are not double counting the number of respondents in this ICR, as we do not account for the iSSI (iClaim) respondents under 0960-0618, we only account for them here.
* We based this figure by averaging both the average DI payments based on SSA's current data (https://www.ssa.gov/legislation/2024FactSheet.pdf), and the average U.S. worker's hourly wages, as reported by Bureau of Labor Statistics data (https://www.bls.gov/oes/current/oes_nat.htm).
** We based this figure on averaging both the average FY 2024 wait times for field offices and teleservice centers, based on SSA's management information data.
*** This figure does not represent actual costs that SSA is imposing on recipients of Social Security payments to complete this application; rather, these are theoretical opportunity costs for the additional time respondents will spend to complete the application. There is no actual charge to respondents to complete the application.

What will the benefits of iSSI be in comparison to our current processes?

• iSSI will be much simpler than the current process for the early stages of the SSI application process. Rather than completing a paper form, calling or visiting a field office to preserve a protective filing date, or assembling significant amounts of information to begin an application, the applicants will now just need to start the online DIB application process and answer the new iSSI basic eligibility questions. Once SSA receives the answers to the questions, we will determine whether further development is needed, and will contact the claimant if necessary.

• iSSI will also be more convenient and somewhat faster than the initial stages of the current application process. Primarily, this is because the iClaim system pre-populates information from SSA's records for authenticated applicants that the applicant might otherwise have needed to provide. As well, iSSI will seamlessly move the applicant on to the other next steps described above (e.g., completion of the i3368). Moreover, applicants will save time that might have been required for a field office visit or a phone appointment.

• Finally, iSSI will, for the first time, offer an electronic option to non-U.S. citizens. Currently, a non-U.S. citizen is told they will be contacted by an SSA employee to initiate an application. With iSSI, we will be able to utilize citizenship and country information from SSA's records for authenticated applicants.

Tasha Harley,
Acting Reports Clearance Officer, Social Security Administration.

[FR Doc. 2024-19185 Filed 8-26-24; 8:45 am]

BILLING CODE 4191-02-P